DEPARTMENT OF TRANSPORTATION

Federal Aviation Administration

14 CFR Part 39

[Docket No. FAA-2007-28229; Directorate Identifier 2006-SW-23-AD; Amendment 39-15434; AD 2008-06-22]

RIN 2120-AA64

Airworthiness Directives; Eurocopter France Model EC130 B4 Helicopters

AGENCY: Federal Aviation Administration, DOT.

ACTION: Final rule.

SUMMARY: This amendment adopts a new airworthiness directive (AD) for the specified Eurocopter France (Eurocopter) Model EC 130 B4 helicopters, with certain twist grip assemblies installed, that requires inspecting the pilot and co-pilot collective levers for proper bonding between the twist grip drive tubes and the control pinions and if debonding is present, replacing the collective levers before further flight. This amendment is prompted by one incident in which the engine remained at idle speed although the twist grip had been turned to the flight position. The actions specified by this AD are intended to detect debonding between the twist grip drive tubes and the control pinions on the pilot and co-pilot collective levers to prevent loss of cockpit throttle control of the engine, and subsequent loss of control of the helicopter.

DATES: Effective April 28, 2008.

The incorporation by reference of certain publications listed in the regulations is approved by the Director of the Federal Register as of April 28, 2008.

ADDRESSES: You may get the service information identified in this AD from American Eurocopter Corporation, 2701 Forum Drive, Grand Prairie, Texas 75053-4005, telephone (972) 641-3460, fax (972) 641-3527.

Examining the Docket: You may examine the docket that contains this AD, any comments, and other information on the Internet at http://www.regulations.gov or at the Docket Operations office, West Building Ground Floor, Room W12-140, 1200 New Jersey Avenue, SE., Washington, DC.

FOR FURTHER INFORMATION CONTACT: Ed Cuevas, Aviation Safety Engineer, FAA, Rotorcraft Directorate, Safety Management Group, Fort Worth, Texas 76193-0111, telephone (817) 222-5355, fax (817) 222-5961.

SUPPLEMENTARY INFORMATION: A proposal to amend 14 CFR part 39 to include an AD for the specified model helicopters was published in the Federal Register on May 21, 2007 (72 FR 28456). That action proposed to require, within 110 hours time-in-service (TIS) or 4 months, whichever occurs first, or before installing a collective lever with an affected grip assembly on a helicopter, inspecting the bonding between the twist grip drive tube and the control pinion on both the pilot and co-pilot collective lever. If debonding is present, replacing the collective lever before further flight was proposed.

The European Aviation Safety Agency (EASA) notified us that an unsafe condition may exist on Eurocopter Model EC 130 B4 helicopters, with a twist grip assembly, part number (P/N) 350A27520900, 350A27520901, 350A27520902, or 350A27520903, with a serial number below 64, installed on the pilot's side, and a twist grip assembly, P/N 350A27521201, with a serial number below 67, installed on the co-pilot's side. EASA advises that analysis of an incident that occurred during autorotation training revealed a failure of the twist grip drive tube and control pinion bonded attachment. The engine remained at idle speed although the twist grip had been turned back to the flight position. The autorotation procedure continued to the ground without damage to the helicopter. The failure has been attributed to non-compliant surface preparation during manufacture.

Eurocopter, an EADS Company, has issued Alert Service Bulletin EC130 No. 76A001, dated February 10, 2006, which specifies a check by use of a twist grip adjusting gauge of the bonding between the twist grip drive tube and the control pinion on both the pilot and co-pilot collective lever. EASA classified this service bulletin as mandatory and issued AD No. 2006-0079, dated April 3, 2006, to ensure the continued airworthiness of these helicopters in France.

This helicopter model is manufactured in France and is type certificated for operation in the United States under the provisions of 14 CFR 21.29 and the applicable bilateral agreement. Pursuant to the applicable bilateral agreement, France, through the EASA, has kept the FAA informed of the situation described above. The FAA has examined the findings of the EASA, reviewed all available information, and determined that AD action is necessary for products of this type design that are certificated for operation in the United States.

Interested persons have been afforded an opportunity to participate in the making of this amendment. No comments were received on the proposal or the FAA's determination of the cost to the public. The FAA has determined that air safety and the public interest require the adoption of the rule as proposed.

The FAA estimates that this AD will affect 73 helicopters of U.S. registry. The debonding inspection will take approximately 0.25 work hours per helicopter and replacing a collective lever will take approximately 2 work hours at an average labor rate of $80 per work hour. If replacement is necessary, required parts will cost approximately:

• $8,651 for a co-pilot twist grip assembly, part number (P/N) 350A27521201;

• $12,542 for a pilot twist grip assembly, P/N 350A27520903;

• $5 for a clamp, P/N ASNA0021;

• $2 for a bolt, P/N 22125BC050014L; and

• $1 for a nut, P/N 22431BC050L.

Based on these figures, we estimate the total cost impact of this AD on U.S. operators to be $10,271, assuming one co-pilot twist grip assembly is replaced in one helicopter, that the twist grip adjusting gage (tool) and spring scale needed are on-site and available, and that the co-pilot twist grip assembly is not covered by warranty, and no pilot twist grip assembly will need to be replaced. The manufacturer has indicated that parts are covered by warranty up to 1,000 hours or 2 years after the purchase of a new helicopter, however, it indicated that labor is not covered by a warranty.

Regulatory Findings

We have determined that this AD will not have federalism implications under Executive Order 13132. This AD will not have a substantial direct effect on the States, on the relationship between the national Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this AD. See the AD docket to examine the economic evaluation.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2008-06-22 Eurocopter France: Amendment 39-15434. Docket No. FAA-2007-28229; Directorate Identifier 2006-SW-23-AD.

Applicability: Model EC130 B4 helicopters, with a twist grip assembly, part number (P/N) 350A27520900, 350A27520901, 350A27520902, or 350A27520903, with a serial number below 64, installed on the pilot's side, and a twist grip assembly, P/N 350A27521201, with a serial number below 67, installed on the co-pilot's side, certificated in any category.

Compliance: Required within 110 hours time-in-service (TIS) or 4 months, whichever occurs first, and before installing a replacement collective lever with an affected twist grip assembly on a helicopter, unless accomplished previously.

To detect a reduced bonding strength of the control pinion on the pilot and co-pilot collective lever drive tubes, which could lead to failure of a twist grip drive tube and control pinion bonded attachment, resulting in loss of engine throttle control and subsequent loss of control of the helicopter, accomplish the following:

(a) Inspect the pilot and co-pilot collective levers for proper bonding between the twist grip drive tubes and the control pinions in accordance with paragraphs 2.B.1. and 2.B.2. of the Accomplishment Instructions, in Eurocopter, an EADS Company, Alert Service Bulletin EC130 No. 76A001, dated February 10, 2006, except you are neither required to contact the manufacturer nor return a non-compliant collective lever.

(b) If a twist grip turns when applying the 35N load to the twist grip, before further flight, replace the collective lever with an airworthy collective lever that has been inspected in accordance with paragraph (a) of this AD, or a collective lever with a twist grip assembly that is not listed in the Applicability of this AD.

(c) To request a different method of compliance or a different compliance time for this AD, follow the procedures in 14 CFR 39.19. Contact the Manager, Safety Management Group, ATTN: Ed Cuevas, Aviation Safety Engineer, Rotorcraft Directorate, FAA, Fort Worth, Texas 76193-0111, telephone (817) 222-5355, fax (817) 222-5961, for information about previously approved alternative methods of compliance.

(d) The inspection and replacement, if necessary, shall be done in accordance with the specified portions of Eurocopter, an EADS Company, Alert Service Bulletin EC130 No. 76A001, dated February 10, 2006. The Director of the Federal Register approved this incorporation by reference in accordance with 5 U.S.C. 552(a) and 1 CFR part 51. Copies may be obtained from American Eurocopter Corporation, 2701 Forum Drive, Grand Prairie, Texas 75053-4005, telephone (972) 641-3460, fax (972) 641-3527. Copies may be inspected at the FAA, Office of the Regional Counsel, Southwest Region, 2601 Meacham Blvd., Room 663, Fort Worth, Texas or at the National Archives and Records Administration (NARA). For information on the availability of this material at NARA, call 202-741-6030, or go to: http://www.archives.gov/federal_register/code_of_federal_regulations/ibr_locations.html.

(e) This amendment becomes effective on April 28, 2008.

Note: The subject of this AD is addressed in EASA (France) AD 2006-0079, dated April 3, 2006.

Issued in Fort Worth, Texas, on March 10, 2008.
Mark R. Schilling,
Acting Manager, Rotocraft Directorate, Aircraft Certification Service.

[FR Doc. E8-5494 Filed 3-21-08; 8:45 am]

BILLING CODE 4910-13-P